DEPARTMENT OF LABOR

Employment and Training Administration

[TA-W-63,694]

Klaussner Furniture Industries, Inc., Asheboro, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 1, 2008, applicable to workers of Klaussner Furniture Industries, Inc., Asheboro, North Carolina. The notice was published in the Federal Register on August 12, 2008 (73 FR 46922).

At the request of the State agency, the Department reviewed the certification for workers of the subject firm. The workers were engaged in the production of upholstered furniture.

Findings show that there was a previous certification, TA-W-59,586, issued on July 31, 2006, for the workers of the Asheboro, North Carolina location of the subject firm. That certification expired July 31, 2008. To avoid an overlap in worker group coverage for the workers of the Asheboro, North Carolina location, the certification is being amended to change the impact date from July 31, 2008 to August 1, 2008.

Accordingly, the Department is amending the certification to properly reflect this matter.

The amended notice applicable to TA-W-63,694 is hereby issued as follows:

All workers of Klaussner Furniture Industries, Inc., Asheboro, North Carolina, who became totally or partially separated from employment on or after August 1, 2008, through August 1, 2010, are eligible to apply for adjustment assistance under Section 223 of the Trade Act of 1974, and are also eligible to apply for alternative trade adjustment assistance under Section 246 of the Trade Act of 1974.

Signed at Washington, DC this 12th day of August 2008.
Linda G. Poole,
Certifying Officer, Division of Trade Adjustment Assistance.

[FR Doc. E8-19186 Filed 8-18-08; 8:45 am]

BILLING CODE 4510-FN-P